DEPARTMENT OF VETERANS AFFAIRS

Gulf War Veterans' Illnesses Task Force Report

AGENCY: Department of Veterans Affairs.

ACTION: Notice.

SUMMARY: The Secretary of Veterans Affairs (VA) established the Gulf War Veterans' Illnesses Task Force (GWVI-TF) in August 2009 to focus on full spectrum health care and benefits issues faced by Veterans of the 1990-1991 Gulf War (Operations Desert Shield and Desert Storm). The GWVI-TF published its first annual report in September 2010.

The GWVI-TF posted a draft of its 2012-13 report for public comment on May 14, 2013. VA published the report in the Federal Register (78 FR 28292) and posted it on a social media Web site created specifically to elicit responses on the report. VA collected comments through both venues. During the thirty day comment period, VA received 41 comments submitted through the Federal Register venue and over 180 comments through the social media Web site. VA sincerely thanks all those who took the time to submit comments.

VA has completed its 2012-13 Gulf War Veterans' Illnesses Task Force Report. The GWVI-TF reviewed all the comments submitted, and addressed in this report those comments that were directly responsive to the draft report. Comments specifically addressed in this report are annotated accordingly. The comments that were not directly responsive to the draft report will serve as guidance for the VA to consider as it moves forward.

Finally, there were a number of individual requests for assistance. Those that contained sufficient specific information were referred to appropriate VA offices for action. Those that were not specific enough or were anonymously submitted will serve as background for consideration on areas for the VA to study in the future.

ADDRESSES: The 2012-13 Gulf War Veterans' Illnesses Task Force Report is available on the VA Web site at: http://www.va.gov/opa/publications/.

FOR FURTHER INFORMATION CONTACT: Col. Patrick Picardo, GWVI-TF Secretary, OSVA, Department of Veterans Affairs, 810 Vermont Avenue NW., Washington, DC 20420, at patrick.picardo@va.gov.

Signing Authority

The Secretary of Veterans Affairs, or designee, approved this document and authorized the undersigned to sign and submit the document to the Office of the Federal Register for publication electronically as an official document of the Department of Veterans Affairs. Jose D. Riojas, Chief of Staff, Department of Veterans Affairs approved this document on January 27, 2014, for publication.

Dated: February 25, 2014.
William F. Russo,
Deputy Director, Office of Regulation Policy and Management, Office of the General Counsel.

[FR Doc. 2014-04476 Filed 2-27-14; 8:45 am]

BILLING CODE 8320-01-P